NATIONAL TRANSPORTATION SAFETY BOARD

Sunshine Act Meeting Notice

Agenda

Time and Date: 9:30 a.m., Tuesday, November 14, 2006.

Place: NTSB Conference Center, 429 L'Enfant Plaza, SW., Washington, DC 20594.

Status: The one item is open to the public.

Matter to be Considered: 5299V, Most Wanted Safety Recommendations Program—November 2006; Update on Federal Issues.

News Media Contact: The Office of Public Affairs, Telephone: (202) 314-6100.

Individuals requesting specific accommodations should contact Chris Bisett at (202) 314-6305 by Friday, November 10, 2006.

The public may view the meeting via a live or archived Webcast by accessing a link under “News & Events” on the NTSB home page at http://www.ntsb.gov.

FOR FURTHER INFORMATION CONTACT: Vicky D'Onofrio, (202) 314-6410.

Dated: November 3, 2006.
Vicky D'Onofrio,
Federal Register Liaison Officer.

[FR Doc. 06-9120 Filed 11-3-06; 1:57 pm]

BILLING CODE 7533-01-P